DEPARTMENT OF ENERGY

Federal Energy Regulatory Commission

[Docket No. EC04-157-000, et al.]

Delta Person Limited Partnership, et al.; Electric Rate and Corporate Filings

September 16, 2004.

The following filings have been made with the Commission. The filings are listed in ascending order within each docket classification.

1. Delta Person Limited Partnership, Onondaga Cogeneration Limited Partnership

[Docket Nos. EC04-157-000, ER01-138-002, and ER00-895-005]

Take notice that on September 13, 2004, Delta Person Limited Partnership (Delta Person) and Onondaga Cogeneration Limited Partnership (Onondaga) (collectively, Applicants) filed an application under section 203 of the Federal Power Act requesting Commission authorization for the disposition of jurisdictional assets relating to the following transactions: (1) A transfer of a partial indirect ownership interest in Delta Person, through a transfer of membership interests in Delta Person, LLC from John Hancock Life Insurance Company to ArcLight Energy Parners Fund I, L.P. (ArcLight Fund I); (2) an internal corporate reorganization in which ArcLight Fund I will transfer all of its indirect upstream ownership interests in Delta Person to Epsilon Power Funding, LLC (Epsilon Funding), a newly-created intermediate holding company wholly-owned by Epsilon Power Holdings, LLC (Epsilon Holdings), or to Epsilon Holdings and then to Epsilon Funding; (3) the subsequent transfer of all of the ownership interests in Epsilon Funding from Epsilon Holdings to Atlantic Power Holdings LLC (Atlantic Holdings); and (4) the transfer of all of the ownership interests in Teton Power Funding, LLC (Teton Funding) from Teton Power Holdings, LLC (Teton Holdings) to Atlantic Holdings. Applicants state that as a result of the Transactions, Atlantic Holdings will own a 40 percent indirect upstream ownership interest in Delta Person and will own 100 percent of the indirect upstream ownership interests in Onondaga. Applicants also state that Atlantic Holdings is indirectly owned by Atlantic Power Corporation, ArcLight Fund I, ArcLight Energy Partners Fund II, L.P., and Caithness Energy, L.L.C. Applicants further state that they requested confidential treatment of the contents of Exhibit B, Exhibit E, and Exhibit I to the section 203 application. In addition, Applicants filed a notice of change in status in the above-referenced rate dockets.

Comment Date: 5 p.m. eastern time on October 4, 2004.

2. Carprock Wind LLC

[Docket No. EC04-158-000]

Take notice that on September 14, 2004, Caprock Wind LLC (Applicant) filed with the Commission an application pursuant to section 203 of the Federal Power Act for authorization to transfer indirect control of future jurisdictional facilities that will be associated with an 80 MW wind farm Applicant will construct and operate in Quay County, New Mexico.

Comment Date: 5 p.m. eastern time on October 5, 2004.

3. Southeastern Power Administration

[Docket No. EF04-3031-000]

Take notice that on September 13, 2004, the Deputy Secretary of Energy confirmed and approved on an interim basis, effective on September 20, 2004, Rate Schedules JW-1-H and JW-2-E for power from Southeastern Power Administration's Jim Woodruff System. The rate schedules have been submitted to the Federal Energy Regulatory Commission for confirmation and approval on a final basis, effective September 20, 2004, and ending September 19, 2009. The Deputy Secretary of Energy states that the Commission, by order issued April 2, 2003, in Docket No. EF02-3031-000, confirmed and approved Rate Schedules JW-1-G and JW-2-D. Southeastern proposes in the instant filing to replace these rate schedules.

Comment Date: 5 p.m. eastern time on October 4, 2004.

4. East Texas Electric Cooperative, Inc., Complainant v. Entergy Arkansas, Inc., Respondent

[Docket No. EL04-134-000]

Take notice that on September 14, 2004, East Texas Electric Cooperative, Inc. (ETEC) filed a formal complaint against Entergy Arkansas, Inc. (Entergy Arkansas) pursuant to sections 201, 206 and 306 of the Federal Power Act, 16 USC 824b, 824e and 825e, and Rule 206 of the Commission's Rules of Practice and Procedure, 18 CFR 206, alleging that (1) Entergy Arkansas breached its Independence Steam Electric Station Operating Agreement and Power Coordination and Interchange Agreement with ETEC by charging for substitute energy at Entergy's system incremental cost plus 10 percent instead of the ISES Operating Agreement-specified coal equivalency price, (2) Entergy Arkansas is charging ETEC a rate that is not found in its agreements with ETEC and not filed at FERC in violation of filed rate doctrine, (3) Entergy Arkansas and its operating company sister affiliates are violating the Entergy System Agreement with respect to the allocation of purchases of PURPA Qualified Facility Power, and (4) Entergy Arkansas is violating its fiduciary duty to ETEC with respect to sales of substitute energy.

East Texas Electric Cooperative, Inc. certifies that copies of the complaint were served on the contacts for Entergy Arkansas, Inc. as listed on the Commission's list of Corporate Officials.

Comment Date: 5 p.m. eastern time on September 30, 2004.

5. ISO New England Inc.

[Docket No. ER02-2330-030]

Take notice that on September 13, 2004, ISO New England Inc. submitted a compliance filing providing a status report on the implementation of Standard Market Design in New England pursuant to the Commission's order issued September 20, 2002 in Docket Nos. ER02-2330-000 and EL00-62-039.

Comment Date: 5 p.m. eastern time on October 4, 2004.

6. Black Hills Power, Inc., Basin Electric Cooperative, Power River Energy Corporation

[Docket Nos. ER03-1354-004 and ER04-821-001]

Take notice that on September 13, 2004, Black Hills Power, Inc., Basin Electric Cooperative, and Power River Energy Corporation filed a revised version of their joint open access transmission tariff designated as Black Hills Power, Inc., FERC Electric Tariff Original Volume No. 4, in compliance with the Commission's order issued August 6, 2004 in Docket No. ER03-1354-000, et al., and the letter order issued August 19, 2004 in Docket No. ER04-821-000.

Comment Date: 5 p.m. eastern time on October 4, 2004.

7. MidAmerican Energy Company

[Docket No. ER04-703-002]

Take notice that on September 10, 2004, MidAmerican Energy Company (MidAmerican), submitted an amendment to its compliance filing submitted on June 10, 2004 in Docket No. ER04-703-001.

MidAmerican states that it has served a copy of the filing on Northwest Iowa Power Cooperative, the Iowa Utilities Board, the Illinois Commerce Commission and the South Dakota Public Utilities Commission.

Comment Date: 5 p.m. eastern time on October 1, 2004.

8. Virginia Electric and Power Company

[Docket No. ER04-898-001]

Take notice that on September 10, 2004, Virginia Electric and Power Company, doing business as Dominion Virginia Power, (Dominion) tendered for filing an erratum to its June 1, 2004 filing in Docket No. ER04-898-000. Dominion submitted a revised tariff sheet (Revised Sheet) in Virginia Electric and Power Company's FERC Electric Tariff, Second Revised Volume No. 5 (OATT) that corrects the pass-through of a revenue requirement for an independent generator under Schedule 2 to its OATT. Dominion requests an effective date of August 1, 2004.

Dominion states that copies of the filing were served on the official service list in this proceeding. Dominion seeks waiver of the requirement to serve a copy of the filing on all OATT customers and will post a copy of the filing on its Web site.

Comment Date: 5 p.m. eastern time on October 1, 2004.

9. Niagara Mohawk Power Corporation

[Docket No. ER04-920-001]

Take notice that on September 9, 2004, Niagara Mohawk Power Corporation, a National Grid Company (Niagara Mohawk), tendered for filing First Revised Service Agreement No. 334 between Niagara Mohawk and Oneida Indian Nation (Oneida) under the New York Independent System Operator's FERC Electric Tariff, Original Volume No. 1, in compliance with the Commission's order issued July 26, 2004 in Docket No. ER04-920-000. Niagara Mohawk requests a revised effective date of September 1, 2004.

Comment Date: 5 p.m. eastern time on October 1, 2004.

10. PJM Interconnection, L.L.C.

[Docket No. ER04-1039-001]

Take notice that on September 10, 2004, PJM Interconnection, L.L.C. (PJM), submitted for filing a supplement to its July 23, 2004 filing of an executed interconnection service agreement among PJM, National Institutes of Health, and Potomac Electric Power Company (NIH ISA) to identify differences between the NIH ISA and the form of ISA in Attachment O of the PJM Open Access Transmission Tariff as modified by tariff revisions accepted by the Commission in PJM Interconnection, L.L.C., 108 FERC ¶ 61,025 (2004) and to explain certain non-standard terms and conditions included in the NIH ISA. PJM requests an effective date of June 23, 2004.

PJM states that copies of this filing were served upon the parties to the agreement and the state regulatory commissions within the PJM region, and all parties on the official service list compiled by the Secretary in this proceeding.

Comment Date: 5 p.m. eastern time on October 1, 2004.

11. PJM Interconnection, L.L.C.

[Docket No. ER04-1040-001]

Take notice that on September 10, 2004, PJM Interconnection, L.L.C. (PJM) submitted for filing a supplement to its July 23, 2004 filing of an executed interim interconnection service agreement (Interim ISA) among PJM, Calvert Cliffs Nuclear Power Plant, Inc. and Baltimore Gas and Electric (Calvert Cliffs Interim ISA) to identify differences between the Calvert Cliffs Interim ISA and the form of Interim ISA in Attachment O-1 of the PJM Open Access Transmission Tariff accepted by the Commission in PJM Interconnection, L.L.C., 108 FERC ¶ 61,025 (2004) and to provide further explanation regarding non-standard terms and conditions.

PJM states that copies of this filing were served upon the parties to the agreement and the State regulatory commissions within the PJM region, and all parties on the official service list compiled by the Secretary in this proceeding.

Comment Date: 5 p.m. eastern time on October 1, 2004.

12. Pythagoras Global Investors L.P.

[Docket No. ER04-1113-001]

Take notice that on September 9, 2004, Pythagoras Global Investors L.P. (Pythagoras) submitted an amendment to its August 11, 2004 filing in Docket No. ER04-1113-000. Pythagoras renewed its request for an effective date of October 1, 2004.

Comment Date: 5 p.m. eastern time on September 20, 2004.

13. Tampa Electric Company

[Docket No. ER04-1156-000]

Take notice that on September 13, 2004, Tampa Electric Company (Tampa Electric) filed a withdrawal of the notice of cancellation of the service agreement with Southern Company Services, Inc. (Southern) filed on August 30, 2004 in Docket No. ER04-1156-000. Tampa Electric states that the service agreement should remain in effect until further notice.

Tampa Electric states that copies of the filing have been served on Southern and the Florida Public Service Commission.

Comment Date: 5 p.m. eastern time on October 4, 2004.

14. Tucson Electric Power Company

[Docket No. ER04-1210-000]

Take notice that on September 9, 2004, Tucson Electric Power Company (Tucson Electric) tendered for filing the executed “Restated Power Service Agreement and Restated Westwing—Vail 345 kV Transmission Facilities Participation Agreement and Winchester Substation Participation Agreement between Tucson Electric Power Company and Southwest Transmission Cooperative, Inc.” (Restated Participation Agreement). Tucson Electric requests an effective date of June 19, 2004. In addition, Tucson Electric tendered for filing Notices of Cancellation in order to reflect the cancellation of the Westwing—Vail 345 kV Transmission Facilities Participation Agreement between Tucson Electric and Southwest Transmission Cooperative, Inc., dated as of May 21, 1975, as amended, and the Power Service Agreement between Tucson Electric and Southwest Transmission Cooperative, Inc., dated May 28, 1976, as amended, which are superceded by the Restated Participation Agreement.

Comment Date: 5 p.m. eastern time on September 30, 2004.

15. Covert Generating Company, LLC

[Docket No. ER04-1211-000]

Take notice that on September 13, 2004, Covert Generating Company, LLC (Covert) submitted a Notice of Cancellation of its FERC Electric Tariff, Original Volume No. 1. Covert requests an effective date of August 16, 2004.

Covert states that the filing has not been served on any party because it is not currently engaged in any sales of electric power or entered into any power or related contracts with any purchasers.

Comment Date: 5 p.m. eastern time on October 4, 2004.

16. Attala Generating Company, LLC

[Docket No. ER04-1212-000]

Take notice that on September 13, 2004, Attala Generating Company, LLC. (Attala) submitted a Notice of Cancellation of its FERC Electric Tariff, Original Volume No. 1. Attala requests an effective date of March 5, 2004.

Attala states that the filing has not been served on any party because it is not currently engaged in any sales of electric power or entered into any power or related contracts with any purchasers.

Comment Date: 5 p.m. eastern time on October 4, 2004.

17. Harquahala Generating Company, LLC

[Docket No. ER04-1213-000]

Take notice that on September 13, 2004, Harquahala Generating Company, LLC (Harquahala) submitted a Notice of Cancellation of its FERC Electric Tariff, Original Volume No. 1, Harquahala requests an effective date of August 16, 2004.

Harquahala states that the filing has not been served on any party because it is not currently engaged in any sales of electric power or entered into any power or related contracts with any purchasers.

Comment Date: 5 p.m. eastern time on October 4, 2004.

18. Athens Generating Company, L.P.

[Docket No. ER04-1214-000]

Take notice that on September 13, 2004, Athens Generating Company, L.P., (Athens) submitted a Notice of Cancellation of its FERC Electric Tariff, Original Volume No. 1. Athens requests an effective date of August 16, 2004.

Athens states that the filing has not been served on any party because it is not currently engaged in any sales of electric power or entered into any power or related contracts with any purchasers.

Comment Date: 5 p.m. eastern time on October 1, 2004.

19. Anthracite Power and Light Company

[Docket No. ER04-1215-000]

Take notice that on September 13, 2004, Anthracite Power and Light Company (APL) petitioned the Commission for acceptance of Anthracite Power and Light Company Rate Schedule FERC No. 1; the granting of certain blanket approvals, including the authority to sell electricity at market-based rates; and the waiver of certain Commission regulations. APL states that it intends to engage in wholesale electric power and energy purchases and sales as a marketer. APL further states that it is not in the primary business of generating or transmitting electric power. APL states that it is primarily engaged in the business of selling bulk fuel oil and gasoline to commercial accounts.

Comment Date: 5 p.m. eastern time on October 4, 2004.

20. Reliant Energy Electric Solutions, LLC, Reliant Energy Solutions East, LLC, Reliant Energy Aurora, LP

[Docket No. ER04-1216-000]

Take notice that on September 13, 2004, Reliant Energy Electric Solutions, LLC (REES), Reliant Energy Solutions East, LLC (RESE) and Reliant Energy Aurora, LP (Reliant Energy Aurora) (together, Reliant Companies) filed revised tariff sheets for REES, RESE and Reliant Energy Aurora, respectively. The Reliant Companies state that the purpose of the revisions is to allow the Reliant Companies to sell ancillary services, as more fully described in the filing, at market-based rates within the portion of the transmission grid controlled by PJM Interconnection, L.L.C.

The Reliant Companies state that copies of the filing were served upon the Reliant Companies' jurisdictional customers.

Comment Date: 5 p.m. eastern time on October 4, 2004.

21. PJM Interconnection, L.L.C.

[Docket No. ER04-1217-000]

Take notice that on September 13, 2004, PJM Interconnection, L.L.C. (PJM), submitted for filing an executed interconnection service agreement among PJM, Somerset Windpower, L.L.C., and Pennsylvania Electric Company, a FirstEnergy Company designated as Original Service Agreement No. 1128 under PJM's FERC Electric Tariff, Sixth Revised Volume No. 1. PJM also filed a notice of cancellation of Original Service Agreement No. 784 under PJM's FERC Electric Tariff, Fifth Revised Volume No. 1, an interconnection agreement that has been superseded. PJM requests an effective date of August 13, 2004.

PJM states that copies of this filing were served upon the parties to the agreement and the state regulatory commissions within the PJM region.

Comment Date: 5 p.m. eastern time on October 4, 2004.

22. PJM Interconnection, L.L.C.

[Docket No. ER04-1218-000]

Take notice that on September 13, 2004, PJM Interconnection, L.L.C. (PJM), submitted for filing an executed interconnection service agreement among PJM, Pennsylvania Windfarms, Inc., and Pennsylvania Electric Company, a FirstEnergy Company designated as Original Service Agreement No. 1129 under PJM's FERC Electric Tariff, Sixth Revised Volume No. 1. PJM also submitting a notice of cancellation of Service Agreement No. 489 under PJM's FERC Electric Tariff, Third Revised Volume No. 1, an interconnection service agreement that has been superseded. PJM requests an effective date of August 13, 2004.

PJM states that copies of this filing were served upon the parties to the agreement and the state regulatory commissions within the PJM region.

Comment Date: 5 p.m. eastern time on October 4, 2004.

23. Dynegy Power Marketing, Inc.

[Docket No. ER04-1223-000]

Take notice that on September 10, 2004, Dynegy Power Marketing, Inc. (Dynegy) filed Second Revised Sheet Nos. 1 and 2 to Dynegy's Fourth Revised Rate Schedule No. FERC No. 1, to modify its market-based rate authority associated with the pending termination of its corporate affiliation with Illinois Power Company (Illinois Power).

Comment Date: 5 p.m. eastern time on October 1, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2361 Filed 9-23-04; 8:45 am]

BILLING CODE 6717-01-P